DEPARTMENT OF HEALTH AND HUMAN SERVICES

Centers for Disease Control and Prevention

[30Day-20-1175]

Agency Forms Undergoing Paperwork Reduction Act Review

In accordance with the Paperwork Reduction Act of 1995, the Centers for Disease Control and Prevention (CDC) has submitted the information collection request titled “Environmental Public Health Tracking Network (Tracking Network)” to the Office of Management and Budget (OMB) for review and approval. CDC previously published a “Proposed Data Collection Submitted for Public Comment and Recommendations” notice on February 10, 2020 to obtain comments from the public and affected agencies. CDC received three comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Environmental Public Health Tracking Network (Tracking Network) (OMB Control No. 0920-1175, Exp. 04/30/2020)—Revision—National Center for Environmental Health (NCEH), Centers for Disease Control and Prevention (CDC).

Background and Brief Description

In September 2000, the Pew Environmental Health Commission issued a report entitled “America's Environmental Health Gap: Why the Country Needs a Nationwide Health Tracking Network.” In this report, the Commission documented that the existing environmental health systems were inadequate and fragmented and recommended a “Nationwide Health Tracking Network for disease and exposures.” In response to the report, Congress appropriated funds in the fiscal year 2002's budget for the CDC to establish the National Environmental Public Health Tracking Network (Tracking Network).

Continuously since 2008, and at the national level, the program collects data from (1) other CDC programs such as the National Center for Health Statistics, (2) other federal agencies such as the Environmental Protection Agency, (3) publicly accessible systems such as the Census Bureau, and (4) funded and unfunded state and local health departments (SLHD). These data are integrated into and disseminated from the Tracking Network and used for analyses which can inform national programs, interventions, or policies; guide further development and activities within the Tracking Program; or advance the practice and science of environmental public health tracking. The Tracking Program also collects information from funded SLHD to monitor their progress related to their funding and for program evaluation. This information collection request (ICR) is focused on data and information gathered by the Tracking Program from SLHD. The CDC requests a three-year approval to revise the “Environmental Public Health Tracking Network (Tracking Network)” (OMB Control No. 0920-1175; Expiration Date 04/30/2020). Specifically, CDC seeks to make the following changes:

1. For Tracking Data, minor changes are requested for the Radon Testing Form—removed 33 elements and added four elements.

2. For Program Data, minor changes are requested for the following instruments:

a. EPHT Work Plan—added ten keyword questions.

b. Public Health Action Report—added four questions.

c. Performance Measurement Strategy Report—removed two questions/elements and reduce reporting to once a year.

d. Communication Plan Template and Guide—streamlined template for more efficient reporting.

e. Partnership Plan Template and Guide—partnership plan was separated from communication plan for clarity.

f. Website Analytics Template—created an excel reporting template with one cell for each question.

3. Add four respondents to the 26 SLHDs currently funded to account for the data voluntarily received from unfunded SLHDs and to allow for potential program growth over the next three years.

4. Increase the annualized number of responses from 598 in to 628 (net increase 30 responses) and the annualized time burden from 20,244 to 21,860 hours (net increase 1,616 hours).

The three-year approval will allow CDC to continue collecting health, exposure, and hazard data for environmental health surveillance as well as program monitoring information from funded SLHD through the current five-year cooperative agreement—“Enhancing Innovation and Capabilities of the Environmental Public Health Tracking Network” (CDC-RFA-EH17-1720).

The Tracking Network provides the United States with accurate and timely standardized data from existing health, exposure, and hazard surveillance systems and supports ongoing efforts within the public health and environmental sectors. The goal of the Tracking Network is to improve health tracking, exposure and hazard monitoring, and response capacity. When such data are available, the Tracking Program obtains data from national or public sources in order to reduce the burden on SLHD. When data are not available nationally or publicly, the Tracking Program relies on funded SLHD to obtain and submit these data to the Tracking Network. Data from unfunded SLHD are accepted but not requested or solicited.

Data submitted annually by SLHD to the Tracking Program include: (1) Birth defects prevalence, (2) childhood lead blood levels, if a SLHD does not already report such data to CDC, (3) community drinking water monitoring, (4) emergency department visits, (5) hospitalizations, and (6) radon testing. The Tracking Program receives childhood lead blood levels data from CDC's Childhood Lead Poisoning Prevention Program (under the Healthy Homes and Lead Poisoning Surveillance System [HHLPSS—OMB Control No. 0920-0931, expiration date 5/31/2021]). A metadata record, a file describing the original source and collection procedures for the data being submitted, is also submitted with each dataset (one per dataset for a total of six metadata records per year) using the Tracking Program's metadata creation tool.

Standardized extraction, formatting, and submission processes are developed in collaboration between CDC and SLHD for each dataset. Additions or modifications to these standardized datasets will also be developed collaboratively in order to improve the accuracy, completeness, efficiency, or utility of data submitted to CDC. Such changes will occur at most once a year. Examples of changes to data processes may include: (1) Addition of new variables or outcomes, (2) updates to case definitions, (3) modifications to temporal or spatial aggregation, and (4) changes in formatting for submission. As required, the Tracking Network will submit future additions and modifications as nonsubstantive change requests or revision ICRs.

Over the past three years, these data have been

• Used to calculate standardized measures for environmental health surveillance.

• Integrated into the Tracking Network and disseminated to the public via the Tracking Network's National Public Portal at http://ephtracking.cdc.gov/showHome.action.

• Queried 577,058 times via the Tracking Network's National Public Portal.

Conduct analyses such as

• A review of air and water quality differences between rural and urban counties.

• The development of standardized sub-county geographies for disseminating health data.

• An analysis of the short-term associations between air pollution and respiratory emergency department visits across all age groups.

The Tracking Program also collects program monitoring information from funded SLHD. In addition to standard reporting required by CDC's Procurement and Grants Office, the Tracking Program also collects information from funded SLHD for the purposes of program evaluation and monitoring. This information includes an Environmental Public Health Tracking Workplan Template, a Performance Measurement Strategy Report, a Communication Plan, a Partnership Plan, and a website Analytics Template. Each of these forms are collected annually as documents emailed to the Tracking Program. A public health action (PHA) report is submitted at least once and up to four times a year via email to the Tracking Program as funded SLHD have PHA to report.

Over the past three years, these data were used to identify funded SLHD in need of additional technical assistance, identify common challenges and successes, improve communication between funded SLHD and CDC, and to monitor funded SLHD compliance with funding requirements.

There are no costs for the respondents other than their time. The total estimated time burden is 21,860 hours. This estimate includes the time it takes to extract the data from the original data source(s), standardize and format the data to match the corresponding Tracking Network data form, and submit the data to the Tracking Network. In some cases, the data at the source are centralized and easily extracted. In other cases, like for radon data, the data are not. In those cases, the number of hours for extracting and standardizing the data is much greater.

Estimated Annualized Burden Hours
Type of respondent | Form name | Number of respondents | Number of responses per respondent | Avg. burden per response (in hrs.)
State and local health department | Birth defects prevalence | 22 | 1 | 80
| Childhood lead blood levels | 18 | 1 | 80
| Community drinking water monitoring | 30 | 1 | 100
| Emergency department visits | 30 | 1 | 80
| Hospitalizations | 30 | 1 | 80
| Radon testing | 18 | 1 | 100
| Metadata records | 30 | 6 | 20
| EPHT Work Plan | 30 | 1 | 40
| Public Health Action Report | 30 | 4 | 20
| Performance Measurement Strategy Report | 30 | 1 | 20
| Communications plan | 30 | 1 | 20
| Partnership plan | 30 | 1 | 20
| Website analytics | 30 | 2 | 1

Jeffrey M. Zirger,
Lead, Information Collection Review Office, Office of Scientific Integrity, Office of Science, Centers for Disease Control and Prevention.

[FR Doc. 2020-08793 Filed 4-24-20; 8:45 am]

BILLING CODE 4163-18-P